DEPARTMENT OF TRANSPORTATION

Federal Transit Administration

Second Allocation of Public Transportation Emergency Relief Funds in Response to Hurricane Sandy: Response, Recovery & Resiliency; Correction

AGENCY: Federal Transit Administration (FTA), DOT.

ACTION: Notice; correction.

SUMMARY: On May 29, 2013, the Federal Transit Administration (FTA) published a notice in the Federal Register announcing the allocation of $3.7 billion under the Public Transportation Emergency Relief Program to the four FTA recipients most severely affected by Hurricane Sandy. This amount was in addition to the initial $2 billion allocation announced in the March 29, 2013 Federal Register notice. This notice corrects the May 29 notice.

FOR FURTHER INFORMATION CONTACT: Contact the appropriate FTA Regional Office found at http://www.fta.dot.gov for application-specific information and other assistance needed in preparing a TEAM grant application. For program-specific questions, please contact Adam Schildge, Office of Program Management, phone (202) 366-0778, or email, Adam.Schildge@dot.gov. For legal questions, contact Bonnie Graves, Office of Chief Counsel, phone (202) 366-4011, or email Bonnie.Graves@dot.gov. For questions about direct transfers to other modes within Department of Transportation, please contact Vinn White, Office of Policy, Office of the Secretary, phone (202) 366-9044, or email Vinn.White@dot.gov; or Eric Beightel, Office of Policy, Office of the Secretary, phone (202) 366-8154, or email Eric.Beightel@dot.gov.

SUPPLEMENTARY INFORMATION:

Need for Correction

The FTA notice published in the Federal Register on May 29, 2013 (78 FR 32296), FR Doc. 2013-12766, contained errors. In the FOR FURTHER INFORMATION CONTACT section of the notice, the first name of one of the contact persons is incorrect. Also, the table included in the notice provided incorrect discretionary funding IDs for the New York Metropolitan Transportation Authority and the New York City Department of Transportation.

Therefore, FR Doc. 2013-12766 is corrected as follows:

1. On page 32296, in the 3rd column, the FOR FURTHER INFORMATION CONTACT section is corrected to read as shown above

2. On page 32302, the table is revised to read as follows:

Federal Transit Administration
State(s) | Agency | Discretionary funding ID | Previous allocation | Additional recovery and restoration | Resiliency | Total allocations
FTA Section 5324 Emergency Relief Program
Allocations for Hurricane Sandy, by Agency *
NY | New York Metropolitan Transportation Authority | D2013-SAND-022 (recov.); D2013-SAND-023 (resil.) | $1,194,309,560 | $1,702,462,214 | $897,848,194 | $3,794,619,968
NY | New York City Department of Transportation | D2013-SAND-024 (recov.); D2013-SAND-025 (resil.) | 33,918,813 | 2,834,128 | 8,561,124 | 45,314,065
NY, NJ | Port Authority of New York and New Jersey | D2013-SAND-018 (recov.); D2013-SAND-019 (resil.) | 489,120,634 | 583,904,018 | 287,391,637 | 1,360,416,289
NJ | New Jersey Transit Corporation | D2013-SAND-020 (recov.); D2013-SAND-021 (resil.) | 231,191,117 | 110,799,640 | 106,199,045 | 448,189,802
Mult | Other affected agencies |  | 2,456,379 |  |  | 2,456,379
Mult | Reserved for future allocation |  | 28,048,497 |  |  | 28,048,497
| Grand Total |  | 1,979,045,000 | 2,400,000,000 | 1,300,000,000 | 5,679,045,000
* Allocation amounts reflect reductions due to sequestration.

Issued on: May 30, 2013.
Peter Rogoff,
Administrator.

[FR Doc. 2013-13212 Filed 6-3-13; 8:45 am]

BILLING CODE P